DEPARTMENT OF DEFENSE

Department of the Army

[Docket ID: USA-2015-HQ-0037]

Proposed Collection; Comment Request

AGENCY: Department of the Army, DoD.

ACTION: Notice.

SUMMARY: In compliance with the Paperwork Reduction Act of 1995, the Department of the Army announces a proposed public information collection and seeks public comment on the provisions thereof. Comments are invited on: (a) whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 30, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Department of the Army, Office of the Provost Marshal General (OPMG), Law Enforcement Branch, ATTN: Ms. Katherine Brennan, 2800 Army Pentagon, Washington, DC 20310-2800.

SUPPLEMENTARY INFORMATION: Title; Associated Form; and OMB Number: Army Sex Offender Information; Department of the Army Form 3975; OMB Control Number 0702-0128.

Needs and Uses: The information collection requirement is necessary to obtain and record the sex offender registration information of those sex offenders who live, work or go to school on Army installations. Respondents are any convicted sex offender required to register pursuant to any DOD, Army, State government, law, regulation, or policy where they are employed, reside, or are a student and live, work, or go to school on an Army installation. The information collected is used by Army law enforcement to ensure the sex offender is compliant with any court order restrictions.

Affected Public: Businesses or other for-profit; individuals or households.

Annual Burden Hours: 183.

Number of Respondents: 550.

Responses per Respondent: 1.

Annual Responses: 550.

Average Burden per Response: 20 minutes.

Frequency: On occasion.

Respondents are sex offenders required to register with the state and live, work or go to school on an Army Installation. The information collected is used by Army law enforcement and the Garrison Commander to ensure the sex offender is compliant with any specific court ordered restrictions on Army installations. Data from members of the public is collected only by Army Law Enforcement authorized personnel. The frequency of sex offender registration with the PMO is not under the control of any Army Law Enforcement personnel, it is the responsibility of the sex offender who lives or works on the Army installations to follow Army policy and report to the PMO within 3 working days of assignment to the installation. Sex Offenders could live or work on an Army installation and live in government housing near schools or daycare without Army Law Enforcement's knowledge. Army Law Enforcement would be less able to complete its mission to provide security and law enforcement to safeguard personnel living and working on Army installations.

Dated: September 24, 2015.
Aaron Siegel,
Alternate OSD Federal Register Liaison Officer, Department of Defense.

[FR Doc. 2015-24636 Filed 9-28-15; 8:45 am]

BILLING CODE 5001-06-P